OFFICE OF PERSONNEL MANAGEMENT

5 CFR Part 843

RIN 3206-AL31

Federal Employees' Retirement System; Present Value Conversion Factors for Spouses of Deceased Separated Employees

AGENCY: Office of Personnel Management.

ACTION: Interim rule.

SUMMARY: The Office of Personnel Management (OPM) is issuing an interim rule to revise the table of reduction factors for early commencing dates of survivor annuities for spouses of separated employees who die before the date on which they would be eligible for unreduced deferred annuities under the Federal Employees' Retirement System (FERS) Act of 1986. These rules are necessary to conform the tables to the economic assumptions adopted by the Board of Actuaries and published previously in the Federal Register.

DATES: This interim rule is effective December 19, 2007. We must receive your comments by January 18, 2008.

ADDRESSES: You may submit comments, identified by RIN number 3206-AL31, by any of the following methods:

• Federal eRulemaking Portal: http://www.regulations.gov. Follow the instructions for submitting comments.

• E-mail: combox@opm.gov. Include RIN number 3206-AL31 in the subject line of the message.

• Fax: (202) 606-0990

• Mail: John Panagakos, Manager, Retirement Group, Office of Personnel Management, 1900 E Street NW., RM 4351, Washington, DC 20415.

FOR FURTHER INFORMATION CONTACT: Jessica Johnson, (202) 606-0299.

SUPPLEMENTARY INFORMATION: OPM has published a notice in the Federal Register at 72 FR 31631 (June 7, 2007) to revise the normal cost percentage under the Federal Employees' Retirement System (FERS) Act of 1986, Public Law 99-335, 100 Stat. 514, based on changed economic assumptions and demographic factors adopted by the Board of Actuaries of the Civil Service Retirement System. Those changed economic assumptions require corresponding changes in factors used to produce actuarially equivalent benefits when required by the FERS Act.

Section 843.311 of title 5, Code of Federal Regulations, regulates the benefits for the survivors of separated employees under 5 U.S.C. 8442(c). This section provides a choice of benefits for eligible current and former spouses. If the current or former spouse is the person entitled to the unexpended balance under the order of precedence under 5 U.S.C. 8424, he or she may elect to receive the unexpended balance instead of an annuity.

Alternatively, an eligible current or former spouse may elect to receive an annuity commencing on the day after the employee's death or on the deceased separated employee's 62nd birthday. If the annuity commences on the deceased separated employee's 62nd birthday, it equals 50 percent of the annuity that the separated employee would have received when he or she attained age 62. If the current or former spouse elects the earlier commencing date, the annuity is reduced using the factors in Appendix A to subpart C of part 843 to make the annuity actuarially equivalent to the present value of the annuity that he or she would have received if it commenced on the retiree's 62nd birthday. These rules amend that appendix to conform to the revised economic assumptions.

Waiver of General Notice of Proposed Rulemaking

Under section 553(b)(3)(B) and (d)(3) of title 5, United States Code, I find that good reason exists for waiving the general notice of proposed rulemaking and for making these amendments effective in less than 30 days. The amendments made by this rule are required by changes in economic assumptions that were published on June 7, 2007. Providing a comment period on the result of mathematical computations resulting from the changed economic assumptions is unnecessary and, to the extent that it would delay benefit payments, is contrary to the public interest.

Executive Order 12866, Regulatory Review

This rule has been reviewed by the Office of Management and Budget in accordance with Executive Order (E.O.) 12866, as amended by E.O. 13258 and E.O. 13422.

Regulatory Flexibility Act

I certify that this regulation will not have a significant economic impact on a substantial number of small entities because the regulation will only affect retirement payments to surviving current and former spouses of former employees and Members who separated from Federal service with title to a deferred annuity.

List of Subjects in 5 CFR Part 843

Air traffic controllers, Disability benefits, Firefighters, Government employees, Law enforcement officers, Pensions, Retirement.

United States Office of Personnel Management.
Linda M. Springer,
Director.

For the reasons stated in the preamble, the Office of Personnel Management amends 5 CFR part 843 as follows:

PART 843—FEDERAL EMPLOYEES RETIREMENT SYSTEM—DEATH BENEFITS AND EMPLOYEE REFUNDS

1. The authority citation for part 843 continues to read as follows:

Authority: 5 U.S.C. 8461; §§ 843.205, 843.208, and § 843.209 also issued under 5 U.S.C. 8424; § 843.309 also issued under 5 U.S.C. 8442; § 843.406 also issued under 5 U.S.C. 8441.

Subpart C—Current and Former Spouse Benefits

2. Revise Appendix A to subpart C of part 843 to read as follows:

Appendix A to Subpart C of Part 843.—Present Value Conversion Factors for Earlier Commencing Date of Annuities of Current and Former Spouses of Deceased Separated Employees
Age of separated employee at birthday before death | Multiplier
With at least 10, but less than 20 years of creditable service—
26 | 0.0592
27 | .0633
28 | .0688
29 | .0730
30 | .0804
31 | .0859
32 | .0921
33 | .0991
34 | .1064
35 | .1158
36 | .1234
37 | .1333
38 | .1422
39 | .1551
40 | .1668
41 | .1799
42 | .1938
43 | .2097
44 | .2260
45 | .2437
46 | .2635
47 | .2858
48 | .3085
49 | .3346
50 | .3618
51 | .3926
52 | .4255
53 | .4623
54 | .5025
55 | .5463
56 | .5944
57 | .6461
58 | .7040
59 | .7675
60 | .8374
61 | .9146
With at least 20, but less than 30 years of creditable service—
36 | 0.1483
37 | .1598
38 | .1709
39 | .1858
40 | .2000
41 | 21.59
42 | .2325
43 | .2514
44 | .2708
45 | .2922
46 | .3160
47 | .3424
48 | .3697
49 | .4007
50 | .4335
51 | .4701
52 | .5093
53 | .5532
54 | .6010
55 | .6532
56 | .7104
57 | .7722
58 | .8411
59 | .9167

Age of separated employee at birthday before death | Multiplier by separated employee's year of birth: After 1966 | Multiplier by separated employee's year of birth: From 1950 through 1966 | Multiplier by separated employee's year of birth: Before 1950
With at least 30 years of creditable service—
46 | 0.4109 | 0.4476 | 0.4870
47 | .4449 | .4843 | .5268
48 | .4805 | .5232 | .5691
49 | .5204 | .5666 | .6161
50 | .5630 | .6130 | .6666
51 | .6102 | .6642 | .7222
52 | .6610 | .7195 | .7823
53 | .7175 | .7807 | .8487
54 | .7790 | .8474 | .9210
55 | .8461 | .9203 | 1.0000
56 | .9195 | 1.0000 | 1.0000

[FR Doc. E7-24527 Filed 12-18-07; 8:45 am]

BILLING CODE 6325-38-P